FEDERAL HOUSING FINANCE BOARD

[No. 2004-N-12]

Submission for OMB Review; Comment Request

AGENCY: Federal Housing Finance Board.

ACTION: Notice.

SUMMARY: In accordance with the requirements of the Paperwork Reduction Act of 1995, the Federal Housing Finance Board (Finance Board) has submitted the information collection entitled “Federal Home Loan Bank Directors” to the Office of Management and Budget (OMB) for review and approval of a three-year extension of the OMB control number, which is due to expire on October 31, 2004.

DATES: Interested persons may submit comments on or before November 4, 2004.

ADDRESSES: Submit comments to the Office of Information and Regulatory Affairs of the Office of Management and Budget, Attention: Desk Officer for the Federal Housing Finance Board, Washington, DC 20503.

FOR FURTHER INFORMATION OR COPIES OF THE COLLECTION CONTACT: Patricia L. Sweeney, Program Analyst, Office of Supervision, by telephone at 202/408-2872, by electronic mail at sweeneyp@fhfb.gov, or by regular mail to the Federal Housing Finance Board, 1777 F Street, NW., Washington, DC 20006.

SUPPLEMENTARY INFORMATION:

A. Need for and Use of Information Collection

Section 7 of the Federal Home Loan Bank Act (Bank Act) and the Finance Board's implementing regulation establish the eligibility requirements and the procedures for electing and appointing Federal Home Loan Bank (FHLBank) directors. See 12 U.S.C. 1427; 12 CFR part 915. Under part 915, the FHLBanks determine the eligibility of elected directors and director nominees and run the director election process. The Finance Board determines the eligibility of and selects all appointed FHLBank directors. To determine eligibility, the FHLBanks use the Elected Director Eligibility Certification Form and the Finance Board uses the Appointed Director Eligibility Certification Form. The Finance Board regulation also requires incumbent directors to certify annually that they continue to meet the director eligibility requirements.

The Finance Board uses the information contained in the Appointed Director Eligibility Certification Form and part 915 to determine whether prospective and incumbent appointed FHLBank directors satisfy the statutory and regulatory eligibility requirements. The FHLBanks, and where appropriate, the Finance Board, use the information in the Elected Director Eligibility Certification Form and part 915 to determine whether elected FHLBank directors and director nominees satisfy the statutory and regulatory eligibility requirements. Only individuals meeting these requirements may serve as FHLBank directors. See 12 U.S.C. 1427.

The likely respondents include FHLBanks, FHLBank members, and prospective and incumbent FHLBank directors.

The OMB number for the information collection is 3069-0002. The OMB clearance for the information collection expires on October 31, 2004.

B. Burden Estimate

The Finance Board estimates that total number of respondents is 5010, which includes 12 FHLBanks, 4600 FHLBank members, and 398 prospective and incumbent FHLBank directors. As explained below, the Finance Board estimates that the total annual hour burden for all respondents is 4210 hours.

The Finance Board estimates the total annual average hour burden for each FHLBank to run the election of directors and process prospective and incumbent Elected Director Eligibility Certification Forms is approximately 234 hours. The estimate for the average hour burden for all FHLBanks is 2809 hours (12 FHLBanks × approximately 234 hours).

The Finance Board estimates the total annual average hour burden for all FHLBank members to participate in the director election process is 1150 hours. This includes 150 hours for FHLBank members to process director nomination forms (600 FHLBank members processing nomination forms × 0.25 hours) and 1000 hours for FHLBank members to vote in the director election (4000 FHLBank voting members × 0.25 hours).

The Finance Board estimates the total annual average hour burden for all FHLBank directors is 251 hours. This includes 155 hours for prospective FHLBank directors to complete and return Director Eligibility Certification Forms (206 prospective directors × 1 response per individual × 0.75 hours). It also includes 96 hours for incumbent FHLBank directors to complete and return Director Eligibility Certification Forms or updates, as appropriate (192 incumbent FHLBank directors × 1 response per individual × 0.5 hours).

C. Comment Request

In accordance with the requirements of 5 CFR 1320.8(d), the Finance Board published a request for public comments regarding this information collection in the Federal Register on July 30, 2004. See 69 FR 45715 (July 30, 2004). The 60-day comment period closed on September 28, 2004. The Finance Board received no public comments.

Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments should be submitted to OMB in writing at the address listed above.

Dated: September 29, 2004.
By the Federal Housing Finance Board.
Mark J. Tenhundfeld,
General Counsel.

[FR Doc. 04-22286 Filed 10-4-04; 8:45 am]

BILLING CODE 6725-01-P